DEPARTMENT OF TRANSPORTATION

Federal Aviation Administration

Membership in the National Parks Overflight Advisory Group (NPOAG)

AGENCY: Federal Aviation Administration (FAA), Department of Transportation (DOT).

ACTION: Notice of selection to the National Parks Overflight Advisory Group.

SUMMARY: By Federal Register notice on June 26, 2024, the Federal Aviation Administration (FAA) and the National Park Service (NPS), invited interested persons to apply to fill one current and one upcoming vacancy on the National Parks Overflights Advisory Group (NPOAG). This notice informs the public of the selections made for the one current vacancy representing Native American tribes and one upcoming vacancy representing commercial air tour operators.

FOR FURTHER INFORMATION CONTACT: Sheri G. Lares, Environmental Protection Specialist, telephone: (202) 267-8693, email: sheri.lares@faa.gov.

SUPPLEMENTARY INFORMATION:

Background

The National Parks Air Tour Management Act of 2000 (the Act) was enacted on April 5, 2000, as Public Law 106-181, and subsequently amended in the FAA Modernization and Reform Act of 2012. The Act required the establishment of the NPOAG within one year after its enactment. The NPOAG was established in March 2001. The NPOAG is comprised of a balanced group of representatives of general aviation, commercial air tour operators, environmental concerns, and Native American tribes. The Administrator of the FAA and the Director of NPS (or their designees) serve as ex officio members of the NPOAG. Representatives of the Administrator and Director serve alternating 1-year terms as chairperson of the NPOAG.

In accordance with the Act, the NPOAG provides “advice, information, and recommendations to the Administrator and the Director—

1. On implementation of this title [the Act] and the amendments made by this title;

2. On commonly accepted quiet aircraft technology for use in commercial air tour operations over a national park or tribal lands, which will receive preferential treatment in a given air tour management plan;

3. On other measures that might be taken to accommodate the interests of visitors to national parks; and

4. At the request of the Administrator and the Director, on safety, environmental, and other issues related to commercial air tour operations over national parks or tribal lands.”

Membership

The current NPOAG is made up of one member representing general aviation, three members representing commercial air tour operators, four members representing environmental concerns, and two members representing Native American tribes. Members serve three-year terms. Current members of the NPOAG are as follows: Murray Huling representing general aviation; James Viola, John Becker, and one vacancy representing commercial air tour operators; Robert Randall, Dick Hingson, Les Blomberg, and John Eastman representing environmental interests; Carl Slater and one vacancy representing Native American tribes.

Selection

Dyan Youpee of the Fort Peck Assiniboine & Sioux Tribes and Eric Hamp of Blue Hawaiian Helicopters have been selected to fill the two vacancies for Native American tribes and commercial air tour operators, respectively. The three-year term will commence on the publication date of this Federal Register notice.

Issued in Washington, DC, on August 22, 2024.
Sandra Fox,
Environmental Protection Specialist, Office of Environment and Energy.

[FR Doc. 2024-19195 Filed 8-26-24; 8:45 am]

BILLING CODE P